DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on July 2, 2008, through September 30, 2008.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

List of Petitions

1. Bahji Amelia Adams on behalf of Alexander Garrett George, Smirna, Georgia, Court of Federal Claims Number 08-0127V

2. Crystal and Brock Engler on behalf of Hayden Engler, Paducah, Kentucky, Court of Federal Claims Number 08-0483V

3. Gary Ray, Neah Bay, Washington, Court of Federal Claims Number 08-0484V

4. Frances Hendrix, Helena, Montana, Court of Federal Claims Number 08-0485V

5. Danielle Walker Smith on behalf of Walker John Smith, Deceased Greer, South Carolina, Court of Federal Claims Number 08-0486V

6. Koren McKenzie on behalf of Ethan John, Garden City, New York, Court of Federal Claims Number 08-0489V

7. Michelle and Thomas Harhai on behalf of Kyan Harhai, York, Pennsylvania, Court of Federal Claims Number 08-0490V

8. Nidhi Malhotra and Sharad Chopra on behalf of Tanishq Chopra, Parsippany, New Jersey, Court of Federal Claims Number 08-0491V

9. Enid Figueroa-Viera, Auburndale, Florida, Court of Federal Claims Number 08-0493V

10. Marion and Leslie Metcalf on behalf of Mark Metcalf, Advance, North Carolina, Court of Federal Claims Number 08-0494V

11. Kay and Brad Nordgren on behalf of Riley Nordgren, Eden Prairie, California, Court of Federal Claims Number 08-0495V

12. Tammy Renee and David Lewis Conner on behalf of Savanah Nicole Conner, Davenport, Iowa, Court of Federal Claims Number 08-0496V

13. Maria and Amado Santiago on behalf of Jonah Santiago, Corpus Christie, Texas, Court of Federal Claims Number 08-0502V

14. Erica and Robert Vernacchio on behalf of Leo Vernacchio, North Wales, Pennsylvania, Court of Federal Claims Number 08-0504V

15. Ledawn and Lance Youngclaus on behalf of Measure Scott Youngclaus, Phoenix, Arizona, Court of Federal Claims Number 08-0505V

16. Angela and Raymond Parente on behalf of Frank Parente, Debary, Florida, Court of Federal Claims Number 08-0506V

17. Patricia and George Fabre on behalf of Geoffrey Luke Fabre, Reston, Virginia, Court of Federal Claims Number 08-0507V

18. Mallie Thomas on behalf of Chase Knox Thomas, Birmingham, Alabama, Court of Federal Claims Number 08-0508V

19. Stephanie and John Hemenway on behalf of Andrew Hemenway, Washington, DC, Court of Federal Claims Number 08-0509V

20. Lisa and Raymond Kiley on behalf of Brandon Kiley, Millville, New Jersey, Court of Federal Claims Number 08-0510V

21. Mason Souza, Aloonolin, Illinois, Court of Federal Claims Number 08-0517V

22. Dawn Brucher on behalf of Tyler Brucher, Mesa, Arizona, Court of Federal Claims Number 08-0518V

23. Kimi and Val Gunn on behalf of Hunter Gunn, Irving, Texas, Court of Federal Claims Number 08-0519V

24. Clayton Brown, Riverhead, New York, Court of Federal Claims Number 08-0520V

25. Jill and Craig Campbell on behalf of Craig Campbell, III, Key Largo, Florida, Court of Federal Claims Number 08-0521V

26. Karen and Robert Vitulich on behalf of Chase Vitulich, North Wales, Pennsylvania, Court of Federal Claims Number 08-0522V

27. Kathie and Barry Hagewood on behalf of Chloe Jane Hagewood, Dickson, Tennessee, Court of Federal Claims Number 08-0523V

28. Susan Whittenburg on behalf of Sason M'sus Whittenburg, Fredericksburg, Virginia, Court of Federal Claims Number 08-0524V

29. Kristina and Diego Escutia on behalf of Brooke Escutia, Aliso Viejo, California, Court of Federal Claims Number 08-0525V

30. Gretchen and Tom Jacobs on behalf of Ava Lauren Jacobs, Scottsdale, Arizona, Court of Federal Claims Number 08-0526V

31. Lisa Colin and William Martin on behalf of Andrew Martin, Scarsdale, New York, Court of Federal Claims Number 08-0527V

32. Kristina and Christopher Vasquez on behalf of Reina Vasquez, Miami, Florida, Court of Federal Claims Number 08-0528V

33. Heidi and Daniel Bonaroti on behalf of Benjamin Bonaroti, Phoenix, Arizona, Court of Federal Claims Number 08-0529V

34. Denise Santillan on behalf of Emilio Santillan, Bakersfield, California, Court of Federal Claims Number 08-0532V

35. Karen and Austin Carter on behalf of Austin Carter, Jr., Macon, Georgia, Court of Federal Claims Number 08-0535V

36. Sharron and Joshua Philip Orme on behalf of Jarryn Elizabeth Orme, Muncie, Indiana, Court of Federal Claims Number 08-0538V

37. Katherine Davis, Tuscaloosa, Alabama, Court of Federal Claims Number 08-0543V

38. Ivonne Rose, Napa, California, Court of Federal Claims Number 08-0547V

39. Mohammad Ilyas on behalf of Aaron Amar Ilyas, Wilmington, North Carolina, Court of Federal Claims Number 08-0553V

40. Shelley and Rick Lehner on behalf of Chloe Lehner, Burnsville, Minnesota, Court of Federal Claims Number 08-0554V

41. Theresa and Kevin Trout on behalf of Katherine Trout, Wake Forest, North Carolina, Court of Federal Claims Number 08-0555V

42. AnnMarie and David Montgomery on behalf of Carter Montgomery, Branford, Connecticut, Court of Federal Claims Number 08-0556V

43. Betty Ann DiDario, Washington, New Jersey, Court of Federal Claims Number 08-0557V

44. Patricia Gibbons, Dallas, Pennsylvania, Court of Federal Claims Number 08-0560V

45. Richard Esposito, Lambertville, New Jersey, Court of Federal Claims Number 08-0561V

46. Ann Palker-Corell, Washington, DC, Court of Federal Claims Number 08-0566V

47. Janelle and John Hall on behalf of Jakob Hall, Lake Forest Park, Washington, Court of Federal Claims Number 08-0567V

48. Karen and Brian Riutta on behalf of Josh Riutta, Jupiter, Florida, Court of Federal Claims Number 08-568V

49. Dianna Mathis on behalf of Soloman D. Cotton, Little Rock, Arkansas, Court of Federal Claims Number 08-0570V

50. William Horace Parker, Sr., Baltimore, Maryland, Court of Federal Claims Number 08-0571V

51. Aysen Kahyaoglu and James Alan Taylor on behalf of Kaan Andrew Kahyaoglu Taylor, Suffolk, Virginia, Court of Federal Claims Number 08-0572V

52. Deborah and Timothy Bokmuller on behalf of Branon Thomas Bokmuller, Hinckley, Ohio, Court of Federal Claims Number 08-0573V

53. Eileen and Ivan Rous on behalf of Emily Rous, Okatie, South Carolina, Court of Federal Claims Number 08-0576V

54. Eileen and Ivan Rous on behalf of Cole Rous, Hilton Head, South Carolina, Court of Federal Claims Number 08-0577V

55. John Christian Antle, Forest Grove, Oregon, Court of Federal Claims Number 08-0578V

56. Tessie Dingle, Marble Falls, Texas, Court of Federal Claims Number 08-0579V

57. Patrica and Mark Williams on behalf of Thomas Williams, Lockport, New York, Court of Federal Claims Number 08-0581V

58. Marilyn Lanzaro, Fairfax, Virginia, Court of Federal Claims Number 08-0584V

59. Reba and Scott Smith on behalf of Cody Smith, Vilonia, Arkansas, Court of Federal Claims Number 08-0585V

60. Inna and Yosef Ashdot on behalf of Mark Ashdot, Washington, New Jersey, Court of Federal Claims Number 08-0586V

61. Jennifer and Andrew Hickey on behalf of Matthew Hickey, Glenview, Illinois, Court of Federal Claims Number 08-0590V

62. Emmel and Annvi Miel on behalf of Alyssa Miel, Parsippany, New Jersey, Court of Federal Claims Number 08-0591V

63. Andrea and George Miketa on behalf of Max Miketa, Edina, Minnesota, Court of Federal Claims Number 08-0594V

64. Wenzday and Shawn Neher on behalf of Chancelor Neher, Deceased, Green Bay, Wisconsin, Court of Federal Claims Number 08-0596V

65. Tramella Clayton on behalf of Deven Clayton, Elk Grove, California, Court of Federal Claims Number 08-0598V

66. Jeanne Eason, Metarie, Louisiana, Court of Federal Claims Number 08-0600V

67. LaKeysha Isaac, Jackson, Mississippi, Court of Federal Claims Number 08-0601V

68. Pamela and Jeff Kay on behalf of Mason Kay, Tulsa, Oklahoma, Court of Federal Claims Number 08-0607V

69. Maybelline and Roelito Castillo on behalf of Raymond Castillo, Los Angeles, California, Court of Federal Claims Number 08-0608V

70. Oleta Lance, Mena, Arkansas, Court of Federal Claims Number 08-0611V

71. Niketa Chheda and Anand Nadar on behalf of Jeeval A. Nadar, Cleveland, Ohio, Court of Federal Claims Number 08-0612V

72. Rosa and Terry Ziolkowski on behalf of Miguel Ziolkowski, Baltimore, Maryland, Court of Federal Claims Number 08-0616V

73. Lisa and David Ching on behalf of Christopher Ching, Wellesley, Massachusetts, Court of Federal Claims Number 08-0617V

74. Dorothy Kay Windham, Houston, Texas, Court of Federal Claims Number 08-0618V

75. Donavee Joyner, Pensacola, Florida, Court of Federal Claims Number 08-0619V

76. Donna Donica, New Braunsfels, Texas, Court of Federal Claims Number 08-0625V

77. Evelyn Lee, Kansas City, Missouri, Court of Federal Claims Number 08-0626V

78. Alexia Olige and Eric Tyson on behalf of Anissa Tyson, Pensacola, Florida, Court of Federal Claims Number 08-0627V

79. Stephanie Tran and Joseph Lee Fong on behalf of Carson Lee Fong, Newton, Massachusetts, Court of Federal Claims Number 08-0629V

80. Isioma Awele Unokanjo and Martin Ebegbodi on behalf of Ndidichukwu Maximillian Ebegbodi, Katy, Texas, Court of Federal Claims Number 08-0630V

81. Judy Sand on behalf of Charles Leon Howard, Deceased, Tyler, Texas, Court of Federal Claims Number 08-0632V

82. Fay and Vincent Iosso on behalf of Francesco Iosso, Alpharetta, Georgia, Court of Federal Claims Number 08-0635V

83. Lisa and James Dutcher on behalf of Demitrius Dutcher, Endicott, New York, Court of Federal Claims Number 08-0637V

84. Ruth Brown, Camden, New Jersey, Court of Federal Claims Number 08-0638V

85. Ayesha and Tariq Khan on behalf of Samir Khan, De Soto, Texas, Court of Federal Claims Number 08-0639V

86. Robert Bruce, Columbus, Ohio, Court of Federal Claims Number 08-0640V

87. Gina and Gordon Greenwood on behalf of Graham Greenwood, Memphis, Tennessee, Court of Federal Claims Number 08-0644V

88. Karen Foster on behalf of Amanda Foster, Memphis, Tennessee, Court of Federal Claims Number 08-0649V

89. Jeanna and Eric Reed on behalf of Ian Reed, Naperville, Illinois, Court of Federal Claims Number 08-0650V

90. Vicki and Claude Corkern on behalf of Morgan Diana Corkern, Huntingdon, Tennessee, Court of Federal Claims Number 08-0651V

91. Jody Lynn Bryant, Cambridge, Minnesota, Court of Federal Claims Number 08-0652V

92. Jamie and Jeff Nichols on behalf of Carson Nichols, Deceased, Montesano, Washington, Court of Federal Claims Number 08-0654V

93. Eleanor Haywood, Norfolk, Virginia, Court of Federal Claims Number 08-0655V

94. Earl Sammons, Huntington, West Virginia, Court of Federal Claims Number 08-0657V

95. Kimberly Jordan on behalf of Khamiya Johnson, Deceased, Philadelphia, Pennsylvania, Court of Federal Claims Number 08-0659V

96. Katherine Ptak, Urbana, Illinois, Court of Federal Claims Number 08-0661V

97. Drew McLaughlin, Boston, Massachusetts, Court of Federal Claims Number 08-0662V

98. Eric Greenfield, Bay Pines, Florida, Court of Federal Claims Number 08-0668V

99. Michelle Taylor Grassie on behalf of Amelia Rose Hanson, Olathe, Kansas, Court of Federal Claims Number 08-0672V

100. Jimmy Leviner, Raleigh, North Carolina, Court of Federal Claims Number 08-0673V

101. Heidi Jagoe on behalf of Michael Jagoe, Madison, Wisconsin, Court of Federal Claims Number 08-0678V

102. Nicole and Larry Bayless on behalf of Spencer Bayless, Manhattan Beach, California, Court of Federal Claims Number 08-0679V

103. Levene Bridges, Baltimore, Maryland, Court of Federal Claims Number 08-0683V

104. Bridgette and Michael Selvaggio on behalf of Michael Selvaggio, Orchard Park, New York, Court of Federal Claims Number 08-0684V

105. Dhana Lakshmi Kelam on behalf of Shoumik Suda, Dublin, Ohio, Court of Federal Claims Number 08-0685V

106. Michael Nicolino, Akron, Ohio, Court of Federal Claims Number 08-0695V

107. Eileen Callahan, Champaign, Illinois, Court of Federal Claims Number 08-0696V

Dated: April 28, 2009.
Mary K. Wakefield,
Administrator.

[FR Doc. E9-10246 Filed 5-4-09; 8:45 am]

BILLING CODE 4165-15-P